DEPARTMENT OF DEFENSE

Department of the Air Force

[Docket ID USAF-2010-0028]

Privacy Act of 1974; System of Records

AGENCY: Department of the Air Force, DoD.

ACTION: Notice to Alter a System of Records.

SUMMARY: The Department of the Air Force is proposing to alter a system of records notice in its existing inventory of records systems subject to the Privacy Act of 1974, (5 U.S.C. 552a), as amended.

DATES: The proposed action will be effective on December 22, 2010 unless comments are received that would result in a contrary determination.

ADDRESSES: You may submit comments, identified by docket number and/Regulatory Information Number (RIN) and title, by any of the following methods:

* Federal Rulemaking Portal: http://www.regulations.gov. Follow the instructions for submitting comments.

* Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Department of the Air Force Privacy Office, Air Force Privacy Act Office, Office of Warfighting Integration and Chief Information Officer, ATTN: SAF/XCPPI, 1800 Air Force Pentagon, Washington DC 20330-1800, Mr. Charles J. Shedrick, 703-696-6488.

SUPPLEMENTARY INFORMATION: The Department of the Air Force systems of records notices subject to the Privacy Act of 1974, (5 U.S.C. 552a), as amended, have been published in the Federal Register and are available from the FOR FURTHER INFORMATION CONTACT address above.

The proposed systems reports, as required by 5 United States Code 552a(r) of the Privacy Act, were submitted on November 12, 2010 to the House Committee on Oversight and Government Reform, the Senate Committee on Homeland Security and Governmental Affairs, and the Office of Management and Budget pursuant to paragraph 4c of Appendix I to Office of Management and Budget Circular No. A-130, “Federal Agency Responsibilities for Maintaining Records About Individuals,” dated February 8, 1996, (February 20, 1996, 61 Federal Register 6427).

Dated: November 12, 2010.
Morgan F. Park,
Alternate OSD Federal Register Liaison Officer, Department of Defense.

F071 AF OSI E

System name:

Air Force Badge and Credentials (June 11, 1997, 62 FR 31793).

* * * * *

Changes:

System Identifier:

Delete entry and replace with “F090 AF OSI A.”

* * * * *

System location:

Delete entry and replace with “Headquarters, Air Force Office of Special Investigations (AFOSI), 1535 Command Drive, Andrews AFB, MD 20762-7002.”

* * * * *

Authority for maintenance of the system:

Delete entry and replace with “18 U.S.C. 499, Military naval or official passes; 506, Seals of departments or agencies; 701, Official badges, identification cards, other insignia; Air Force Mission Directive 39, Air Force Office of Special Investigations (AFOSI); Air Force Policy Directive 71-1, Criminal Investigations and Counterintelligence; 10 U.S.C. Chapter 47, Uniform Code of Military Justice and 10 U.S.C. 8012 Department of the Air Force: seal; 10 U.S.C. 8013, Secretary of the Air Force; DoD Directive 7730.47, Defense Incident-Based Reporting System (DIBRS); 18 U.S.C. 922 note, The Brady Handgun Violence Prevention Act; 28 U.S.C. 534 note, Uniform Federal Crime Reporting Act; 42 U.S.C. 10601, `Victims' Rights and Restitution Act of 1990; and E.O. 9397 (SSN), as amended.”

Purpose(s):

Delete entry and replace with “To issue and control badge and credential assigned each AFOSI special agent.

Used only by AFOSI to identify specifically which special agent each badge and credentials is assigned, to provide for orderly annual update of credentials and to insure turn in of badge and credentials whenever accreditation is terminated.”

* * * * *

Policies and practices for storing, retrieving, accessing, retaining, and disposing of records in the system:

Storage:

Delete entry and replace with “Electronic storage media and file folders.”

Retrievability:

Delete entry and replace with “Retrieved by name and/or badge number.”

Safeguards:

Delete entry and replace with “Records are accessed by custodian of the records system and by persons responsible for servicing the records system in performance of their official duties who are properly screened and cleared for need-to-know. Buildings are equipped with alarms, security guards, and/or security-controlled areas accessible only to authorized persons. Electronically and optically stored records are maintained in “fail-safe” system software with password-protected access.”

Retention and disposal:

Delete entry and replace with “Course/class roster, letter of authorization, and related correspondence used as identification for personnel who qualify for and who are eligible to be issued badges and credentials are destroyed after one year or when no longer needed, whichever is sooner. At HQ AFOSI the computer database records and receipts are retained for the entire period badge and credentials are issued to a specific special agent.

Badges, credentials, receipts, computer listing and inspection/inventory records are destroyed 6 months after surrender of badge and credential to which they pertain or when no longer needed whichever is later. Upon retirement or separation, the computer database records are maintained indefinitely and the paper receipts are destroyed when badge and credentials are turned in.”

System manager(s) and address:

Delete entry and replace with “Director of Warfighting Integration; HQ AFOSI/XI, 1535 Command Drive, Andrews AFB, MD 20762-7002.”

Notification procedure:

Delete entry and replace with “Individuals seeking to determine whether information about them is contained in this system should address written inquiries to the Chief, Information Release Branch, HQ AFOSI/XILI, ATTN: Freedom of Information/Privacy Act Officer, 1535 Command Drive, Suite CD208, Andrews Air Force Base, Maryland, 20762.”

Individuals should complete AFOSI's Certification of Identity, Freedom of Information and Privacy Act request form giving their contact information (name, address, phone number, contact e-mail address, and a brief description of the information they are seeking) and are required to sign and date the penalty of perjury clause attesting that they are the person they say they are.

Record access procedures:

Delete entry and replace with “Individuals seeking to determine whether information about them is contained in this system should address written inquiries to the Chief, Information Release Branch, HQ AFOSI/XILI, ATTN: Freedom of Information/Privacy Act Officer, 1535 Command Drive, Suite CD208, Andrews Air Force Base, Maryland, 20762.

Individuals should complete AFOSI's Certification of Identity, Freedom of Information and Privacy Act request form giving their contact information (name, address, phone number, contact e-mail address, and a brief description of the information they are seeking) and are required to sign and date the penalty of perjury clause attesting that they are the person they say they are.”

Contesting record procedures:

Delete entry and replace with “The Air Force rules for accessing records, and for contesting contents and appealing initial agency determinations are published in Air Force Instruction 33-332; 32 CFR part 806b; or may be obtained from the system manager.”

* * * * *

F090 AF OSI A

System name:

Air Force Badge and Credentials.

System location:

Headquarters, Air Force Office of Special Investigations (AFOSI), 1535 Command Drive, Andrews AFB, MD 20762-7002.

Categories of individuals covered by the system:

All accredited AFOSI special agents.

Categories of records in the system:

Letters of authorization to issue badge and credentials, badge and credential receipts, badge listings, badge and credential inspection reports, punch card used to prepare badge listings and badge and credential number assigned to each AFOSI Special Agent.

Authority for maintenance of the system:

18 U.S.C. 499, Military naval or official passes; 506, Seals of departments or agencies; 701, Official badges, identification cards, other insignia; Air Force Mission Directive 39, Air Force Office of Special Investigations (AFOSI); Air Force Policy Directive 71-1, Criminal Investigations and Counterintelligence; 10 U.S.C. Chapter 47, Uniform Code of Military Justice and 10 U.S.C. 8012, Department of the Air Force: seal; 10 U.S.C. 8013, Secretary of the Air Force; DoD Directive 7730.47, Defense Incident-Based Reporting System (DIBRS); 18 U.S.C. 922 note, The Brady Handgun Violence Prevention Act; 28 U.S.C. 534 note, Uniform Federal Crime Reporting Act; 42 U.S.C. 10601, `Victims' Rights and Restitution Act of 1990; and E.O. 9397 (SSN), as amended.

Purpose(s):

To issue and control badge and credential assigned each AFOSI special agent.

Used only by AFOSI to identify specifically which special agent each badge and credentials is assigned, to provide for orderly annual update of credentials and to insure turn in of badge and credentials whenever accreditation is terminated.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The `Blanket Routine Uses' published at the beginning of the Air Force's compilation of systems of records notices apply to this system.

Policies and practices for storing, retrieving, accessing, retaining, and disposing of records in the system:

Storage:

Electronic storage media and file folders.

Retrievability:

Retrieved by name and/or badge number.

Safeguards:

Records are accessed by custodian of the records system and by persons responsible for servicing the records system in performance of their official duties who are properly screened and cleared for need-to-know. Buildings are equipped with alarms, security guards, and/or security-controlled areas accessible only to authorized persons. Electronically and optically stored records are maintained in “fail-safe” system software with password-protected access.

Retention and disposal:

Course/class roster, letter of authorization, and related correspondence used as identification for personnel who qualify for and who are eligible to be issued badges and credentials are destroyed after one year or when no longer needed, whichever is sooner. At HQ AFOSI the computer database records and receipts are retained for the entire period badge and credentials are issued to a specific special agent.

Badges, credentials, receipts, computer listing and inspection/inventory records are destroyed 6 months after surrender of badge and credential to which they pertain or when no longer needed whichever is later. Upon retirement or separation, the computer database records are maintained indefinitely and the paper receipts are destroyed when badge and credentials are turned in.

System manager(s) and address:

Director of Warfighting Integration; HQ AFOSI/XI, 1535 Command Drive, Andrews AFB, MD 20762-7002.

Notification procedure:

Individuals seeking to determine whether information about them is contained in this system should address written inquiries to the Chief, Information Release Branch, HQ AFOSI/XILI, ATTN: Freedom of Information/Privacy Act Officer, 1535 Command Drive, Suite CD208, Andrews Air Force Base, Maryland.

Individuals should complete AFOSI's Certification of Identity, Freedom of Information and Privacy Act request form giving their contact information (name, address, phone number, contact e-mail address, and a brief description of the information they are seeking) and are required to sign and date the penalty of perjury clause attesting that they are the person they say they are.

Record access procedures:

Individuals seeking to determine whether information about them is contained in this system should address written inquiries to the Chief, Information Release Branch, HQ AFOSI/XILI, ATTN: Freedom of Information/Privacy Act Officer, 1535 Command Drive, Suite CD208, Andrews Air Force Base, Maryland, 20762

Individuals should complete AFOSI's Certification of Identity, Freedom of Information and Privacy Act request form giving their contact information (name, address, phone number, contact e-mail address, and a brief description of the information they are seeking) and are required to sign and date the penalty of perjury clause attesting that they are the person they say they are.

Contesting record procedures:

The Air Force rules for accessing records, and for contesting contents and appealing initial agency determinations are published in Air Force Instruction 33-332; 32 CFR part 806b; or may be obtained from the system manager.

Record source categories:

Information is obtained from personnel records and issued badge.

Exemptions claimed for the system:

None.

[FR Doc. 2010-29340 Filed 11-19-10; 8:45 am]

BILLING CODE 5001-06-P